FEDERAL MARITIME COMMISSION

Notice of Meeting

Agency Holding the Meeting: Federal Maritime Commission.

Time and Date: June 4, 2008—10 a.m.

Place: 800 North Capitol Street, NW., First Floor Hearing Room, Washington, DC.

Status: A portion of the meeting will be in Open Session and the remainder of the meeting will be in Closed Session.

Matters To Be Considered

Open Session

(1) Agency FAIR Act Report/Recommendation.

(2) Docket No. 07-05 KEI Enterprises dba KEI Logix v. Greenwest Activewear, Inc.

Closed Session

(1) Direction to Staff Regarding Budget Hearing Committee Requests.

(2) Show Cause Order re OTI Licensing Matter.

(3) Agreement No. 201178—Los Angeles/Long Beach Port/Terminal Operator Administration and Implantation Agreement and Agreement No. 201170—Los Angeles and Long Beach Port Infrastructure and Environmental Programs.

(4) Export Cargo Issues.

(5) Internal Administrative Practices and Personnel Matters.

Contact Person for More Information: Karen V. Gregory, Assistant Secretary, (202) 523-5725.

Karen V. Gregory,
Assistant Secretary.

[FR Doc. E8-12269 Filed 6-4-08; 8:45 am]

BILLING CODE 6730-01-P